DEPARTMENT OF HOMELAND SECURITY

Coast Guard

33 CFR Part 72

[USCG-2001-10714]

RIN 1625-AA34 (Formerly RIN 2115-AG25)

Update of Rules on Aids to Navigation Affecting Buoys, Sound Signals, International Rules at Sea, Communications Procedures, and Large Navigational Buoys

Correction

In proposed rule document 03-11987 beginning on page 25855 in the issue of Wednesday, May 14, 2003, make the following correction:

§ 72.05-10 [Corrected]

On page 25859, in § 72.05-10, in the third column, in the Note, in the fourth and fifth lines, “http://pollux.nss.nima.mil/pubs/USCGLL/pubs_j_uscgll_list” should read, “http://pollux.nss.nima.mil/pubs/USCGLL/pubs_j_uscgll_list.html”.

[FR Doc. C3-11987 Filed 5-21-03; 8:45 am]

BILLING CODE 1505-01-D